DEPARTMENT OF DEFENSE

Department of Navy

Notice of Availability of Government-Owned Inventions; Available for Licensing

AGENCY: Department of the Navy, DoD.

ACTION: Notice.

SUMMARY: The inventions listed below are assigned to the United States Government as represented by the Secretary of the Navy and are available for licensing by the Department of the Navy.

The following patents are available for licensing: U.S. Patent Number 5,520,331 entitled “Liquid Atomizing Nozzle”, issued on May 28, 1996; U.S. Patent Number 6,105,382 entitled “Chest Mounted Armored Microclimate Conditioned Air Device”, issued on August 22, 2000; U.S. Patent Number 6,233,740 entitled “Aircrew Integrated Recovery Survival Vest”, issued on May 22, 2001; U.S. Patent Number 6,241,164 entitled “Effervescent Liquid Fine Mist Apparatus and Method”, issued on June 05, 2001; U.S. Patent 6,598,802 entitled “Effervescent Liquid Fine Mist Apparatus and Method”, issued on July 29, 2003; U.S. Patent Number 6,659,963 entitled “Apparatus for Obtaining Temperature and Humidity Measurements”, issued on December 09, 2003; U.S. Patent Number 7,010,399 entitled “Hybrid Lidar-Radar for Medical Diagnostics”, issued on March 07, 2006; U.S. Patent Number 7,025,304 entitled “Helicopter Messenger Cable Illumination”, issued on April 11, 2006; U.S. Patent Number 7,156,161 entitled “Lightweight Thermal Heat Transfer Apparatus”, issued on January 02, 2007; U.S. Patent Number 7,176,812 B1 entitled “Wireless Blade Monitoring System and Process”, issued on February 13, 2007; U.S. Patent Number 7,180,442 B1 entitled “Target Identification Method Using Cepstral Coefficients”, issued on February 20, 2007; U.S. Patent Number 7,225,999 entitled “Spray Array Apparatus”, issued on June 05, 2007; U.S. Patent Number 7,239,311 entitled “Global Visualization Process (GVP) and System for Implementing a GVP”, issued on July 03, 2007; U.S. Patent Number 7,284,600 B2 entitled “Process of Making a Lightweight Thermal Heat Transfer Apparatus”, issued October 23, 2007; U.S. Patent Number 7,331,183 B2 entitled “Personal Portable Environmental Control System”, issued February 18, 2008; U.S. Patent Application Number 11/417,283 filed on May 01, 2006, Navy Case Number 83036 entitled “Imagery Analysis Tool”; U.S. Patent Number 11/820,034 filed on April 10, 2002, Navy Case Number 83825 entitled “System and Method of Operation thereof for Increasing Acoustic Bandwidth of Transmitting Devices”; U.S. Patent Application Number 11/001,599 filed on November 30, 2004, Navy Case Number 84051 entitled “Rapid Release Mechanism for Textile Apparel Pockets (Receptacles) and Packs (Stowage Receptacles); U.S. Patent Application Number 11/543,277 filed on October 06, 2006, Navy Case Number 84818 entitled “Method for Dyeing High Density Polyethylene Fiber Fabric”; U.S. Patent Application Number 11/726,204 filed on March 16, 2007, Navy Case Number 84896 entitled “Radar Altimeter Model for Simulator”; U.S. Patent Application Number 11/449,977 filed on August 03, 2006, Navy Case Number 84935 entitled “Cleaning Device for Fiber Optic Connectors”; U.S. Patent Application Number 11/251,535 filed on September 29, 2005, Navy Case Number 85000 entitled “Just In Time Wiring Information System (JITWIS)”; U.S. Patent Application Number 11/417,287 filed on May 01, 2006, Navy Case Number 95903 entitled “Bond Integrity Tool”; U.S. Patent Application Number 11/499,179 filed June 05, 2006; Navy Case Number 96399 entitled “Fluids Mixing Nozzle”; U.S. Patent Application Number 11/357,460 filed on February 14, 2006, Navy Case Number 96400 entitled “Apparatus and Method to Amalgamate Substances”; U.S. Patent Application Number 11/251,539 filed on October 03, 2005, Navy Case Number 96569 entitled “Method for Fabrication for a Polymeric Conductive Optical Transparency”; U.S. Patent Application Number 11/482,300 filed on July 11, 2006, Navy Case Number 96614 entitled “Embedded Dynamic Vibration Absorber”; U.S. Patent Application Number 11/801,771 filed on May 31, 2007, Navy Case 96940 entitled “Large Area Hybrid Photomultiplier Tube”; U.S. Patent Application Number 11/801,770 filed on May 31, 2007, Navy Case Number 96941 entitled “Gating Large Area Hybrid Photomultiplier Tube”; U.S. Patent Application Number 11/482,303 filed on July 11, 2006, Navy Case Number 97495 entitled “Hoisting Harness Assembly Tool”; U.S. Patent Application Number 11/481,227 filed on July 07, 2006, Navy Case Number 97763 entitled “Portable Medical Equipment Suite”; U.S. Patent Application Number 11/789,120 filed on April 04, 2007, Navy Case Number 97943 entitled “Transceiver Optical Subassembly”; U.S. Patent Application Number 11/789,121 filed on April 04, 2007, Navy Case Number 97944 entitled “Hybrid Fiber Optic Transceiver Optical Subassembly”; U.S. Patent Application Number 11/726,202 filed on March 05, 2007 entitled “Image Enhancer for Detecting and Identifying Objects in Turbid Media”; U.S. Patent Application Number 11/789,119 filed on April 05, 2007, Navy Case Number 98491A entitled “Adjustable Liquid Atomization Nozzle”; U.S. Patent Application Number 11/789,118 filed on April 05, 2007, Navy Case Number 98491b entitled “Method of Producing and Controlling the Atomization of an Output Flow from a C-D Nozzle”.

ADDRESSES: Request for data and inventor interviews should be directed to Mr. Paul Fritz, Naval Air Warfare Center Aircraft Division, Business Office, Office of Research and Technology Applications, Building 505; Room 116, 22473 Millstone Road, Patuxent River, MD 20670, telephone: 301-342-5586 or e-mail: Paul.Fritz@navy.mil.

DATES: Request for data, samples, and inventor interviews should be made prior to May 30, 2007.

FOR FUTHER INFORMATION CONTACT: Mr. Paul Fritz, Office of Research and Technology Applications, Building 505; Room 116, Naval Air Warfare Center Aircraft Division, 22473 Millstone Road, Patuxent River, MD 20670, telephone: 301-342-5586, Paul.Fritz@navy.mil.

SUPPLEMENTARY INFORMATION: The U.S. Navy intends to move expeditiously to license these inventions. All licensing application packages and commercialization plans must be returned to Naval Air Warfare Center Aircraft Division, Business Office, Office of Research and Technology Applications, Building 505; Room 116, 22473 Millstone Road, Patuxent River, MD 20670.

The Navy, in its decisions concerning the granting of licenses, will give special consideration to existing licensees, small business firms, and consortia involving small business firms. The Navy intends to ensure that its licensed inventions are broadly commercialized throughout the United States.

PCT application may be filed for each of the patents as noted above. The Navy intends that licensees interested in a license in territories outside of the United States will assume foreign prosecution and pay the cost of such prosecution.

Authority: 35 U.S.C. 207, 37 CFR Part 404.

Dated: March 17, 2008.
T.M. Cruz,
Lieutenant, Judge Advocate General's Corps, U.S. Navy, Federal Register Liaison Officer.

[FR Doc. E8-5735 Filed 3-20-08; 8:45 am]

BILLING CODE 3810-FF-P